COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and delete product(s) and service(s) previously furnished by such agencies.

DATES: Comments must be received on or before: February 28, 2026.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-5.3(b), the Committee intends to add the service requirements listed below to the Procurement List as a mandatory purchase only for the contracting activities at the locations listed with the proposed qualified nonprofit agency as the authorized source of supply. Prior to adding the service to the Procurement List, the Committee will consider other pertinent information, including information from Government personnel and relevant comments from interested parties regarding the Committee's intent to geographically limit this services requirement.

Services(s)

Service Type: Base Logistics Services

Mandatory for: Los Angeles Space Force Base

Authorized Source of Supply: Pride Industries, Roseville, CA

Contracting Activity: 5700FA2816, Operational Contracting Division, Space Command Systems, Los Angeles Air Force Base, El Segundo, CA

Deletion

The following product(s) and service(s) are proposed for deletion to the Procurement List:

Product(s)

NSN(s)—Product Name(s):

8920-01-E62-6847—Hot Roll Mix, 6/5 lb Bag 8920-01-E62-2147—Sweet Roll Mix, 6/4 lb Cans

8920-01-E62-1755—Hot Roll Mix, 6/4 lb Cans 8920-01-E62-6846—Sweet Roll Mix, 6/5 lb Bag

Authorized Source of Supply: Opportunity Village, Las Vegas, NV

Mandatory For: DEPT OF DEFENSE

Contracting Activity: DEPT OF DEFENSE, DLA TROOP SUPPORT

8950-01-E62-3532—Poppy Seed, Whole, 6/20 oz. Bottles

Authorized Source of Supply: CDS Monarch, Webster, NY

Mandatory For: DEPT OF DEFENSE

Contracting Activity: DEPT OF DEFENSE, DLA TROOP SUPPORT

7105-01-663-7984—Chair, Folding, Espresso

Authorized Source of Supply: MidWest Enterprises for the Blind, Inc., Kalamazoo, MI

Mandatory For: Total Government Requirement

Contracting Activity: GENERAL SERVICES ADMINISTRATION, GSA/FAS FURNITURE SYSTEMS MGT DIV

7510-00-NIB-0364—Coaster Set, Wooden

Authorized Source of Supply: Tarrant County Association for the Blind, Fort Worth, TX

Mandatory For: Total Government Requirement

Contracting Activity: GENERAL SERVICES ADMINISTRATION, GSA/FAS ADMIN SVCS ACQUISITION BR(2

Services(s)

Service Type:

Mandatory for: U.S. Air Force, Mailroom and Records Management Service, Langley AFB, Joint Base Langley-Eustis, VA,175 Sweeney Blvd., Joint Base Langley-Eustis, VA

Designated Source of Supply: VersAbility Resources, Inc., Hampton, VA

Contracting Activity: DEPT OF DEFENSE, FA4800 633 CONS LGCP

Michael R. Jurkowski,
Director, Business Operations.

[FR Doc. 2026-01750 Filed 1-28-26; 8:45 am]

BILLING CODE 6353-01-P